DEPARTMENT OF JUSTICE

[AAG/A Order No. 215-2001]

Privacy Act of 1974; System of Records

Pursuant to the provisions of the Privacy Act of 1974 (5 U.S.C. 552a), notice is hereby given that the Department of Justice proposes to establish a new system of records to be maintained by the Immigration and Naturalization Service (INS).

The Image Storage and Retrieval System, JUSTICE/INS-005, is a new system of records for which no public notice consistent with the provisions of 5 U.S.C. 552a(e)(4) and (11) has been published.

In accordance with 5 U.S.C. 552a(e)(4) and (11), the public is given a 30-day period in which to comment on routine use disclosures. The Office of Management and Budget (OMB), which has oversight responsibility under the Act, requires a 40-day period in which to conclude its review of the system. Therefore, please submit any comments by February 21, 2001. The public, OMB and the Congress are invited to submit any comments to Mary Cahill, Management Analyst, Management and Planning Staff, Justice Management Division, Department of Justice, Washington, DC 20530 (Room 1400, National Place Building).

In accordance with 5 U.S.C. 552a(r), the Department has provided a report to OMB and the Congress.

Dated: January 8, 2001.
Stephen R. Colgate,
Assistant Attorney General for Administration.

JUSTICE/INS-005

SYSTEM NAME:

INS Image Storage and Retrieval System (ISRS).

SYSTEM LOCATIONS:

Headquarters, Regional Offices, Administrative Centers, Service Centers, District Offices, Ports of Entry, and file control offices of the Immigration and Naturalization Service in the United States as detailed in JUSTICE/INS-999, last published, April 13, 1999 (64 FR 18052). Other offices having access to the system are: The Law Enforcement Support Center, 188 Harvest Lane, Williston, Vermont 05495; the Central States Command Center, 10 West Jackson Boulevard, Chicago, Illinois 60604; and the Forensic Document Laboratory, 8000 Westpark Drive, Suite 325, McLean, Virginia 22101-3105.

CATEGORIES OF INDIVIDUALS COVERED BY THE SYSTEM:

Persons lawfully admitted for permanent residency; Asylees and Parolees lawfully admitted for employment authorization (although, Asylees and Parolees are not initially covered under the Privacy Act, these individuals often change their status to lawful permanent residents and at that time will be covered by the Privacy Act); Commuters and other persons authorized for frequent border crossing; Naturalized United States Citizens.

CATEGORIES OF RECORDS IN THE SYSTEM:

Records consist of formatted data base records of personal biographical data including: Name, date of birth, mother's first name, father's first name, and country of birth; and biometric information (i.e., fingerprints, digital images of facial picture, and signatures).

AUTHORITY FOR MAINTENANCE OF THE SYSTEM:

8 U.S.C. 1103, 1321, and 1360.

PURPOSE(S):

This system of records is used: To verify controlled INS documents issued to individuals covered by the system; to assist the INS with its responsibility to detect and reduce fraudulent entry to the United States; and to detect and reduce the proliferation of fraudulent INS documents.

ROUTINE USES OF RECORDS MAINTAINED IN THE SYSTEM, INCLUDING CATEGORIES OF USERS AND THE PURPOSE OF SUCH USES:

Relevant information contained in this system of records may be disclosed as follows:

A. To the news media and the public pursuant to 28 CFR 50.2 unless it is determined that release of the specific information in the context of a particular case would constitute an unwarranted invasion of personal privacy.

B. To a Member of Congress or staff acting upon the Member's behalf when the Member or staff requests the information on behalf of and at the request of the individual who is the subject of the record.

C. To the General Services Administration and National Archives and Records Administration in records management inspections conducted under the authority of 44 U.S.C. 2904 and 2906.

D. To the appropriate agency/organization/task force, regardless of whether it is Federal, State, local, foreign, or tribal, charged with the enforcement (e.g., investigation and prosecution) of a law (criminal or civil), regulation, or treaty, of any record contained in this system of records which indicates either on its face, or in conjunction with other information, a violation or potential violation of that law, regulation, or treaty.

E. To contractors, grantees, experts, consultants, students, and others performing or working on a contract, service, grant, cooperative agreement, or other assignment for the Federal government, when necessary to accomplish an agency function related to this system of records.

F. Pursuant to subsection (b)(3) of the Privacy Act, the Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM:

STORAGE:

INS Image Storage and Retrieval System (ISRS) information is stored on magnetic media (internal image server disk drives).

RETRIEVABILITY:

Individual records are indexed and retrievable by name, alien registration number (A-number), and application receipt number. In cases where an individual record can not be retrieved by one of these key indexes, combinations of multiple data elements may be used (e.g. name, date of birth, and country of birth) if necessary, to assist in the identification and retrieval of a unique record.

SAFEGUARDS:

Most INS offices are located in buildings under security guard, with access limited to INS and other Federal Government employees and authorized visitors. All records are stored in spaces which are locked outside of normal office hours at the Department of Justice Data Center. The automated equipment is physically accessible only by authorized Department of Justice personnel. Electronic access to the automated system is controlled by restricted password for use at remote terminals in secured areas.

RETENTION AND DISPOSAL:

Image Storage and Retrieval System data records are retained in the system for a period of 75 years and them destroyed.

SYSTEM MANAGER AND ADDRESS:

Associate Commissioner, Immigration Resources Management, Immigration and Naturalization Service, 800 I Street, NW., Room 700, Washington, DC 20536.

NOTIFICATION PROCEDURES:

Inquiries should be addressed to the system manager at the INS office where the record is maintained or (if unknown) to the FOIA/PA Officer, INS, 425 I Street NW., Second Floor, Union Labor Life Building, Washington, DC 20536.

RECORD ACCESS PROCEDURE:

Requests for access to records in this system shall be in writing and should be addressed to the System Manager noted above or to the appropriate FOIA/PA Officer as indicated in System Locations. Requests sent directly to the System Manager should be submitted by mail. Requests to the FOIA/PA Officer may be submitted by mail. Requests to the FOIA/PA Officer may be submitted either by mail or in person. If a request for access is made by mail, the envelope and letter shall be clearly marked Privacy Access Request. Include a description of the general subject matter and if known, the related file number. To identify a record, the requester should provide his or her full name, date and place of birth, verification of identity in accordance with 8 CFR 103.21(b) or provide a statement under penalty of perjury, alien number, the date and place of entry into or departure from the United States and any other identifying information which may be of assistance in locating the record. The requester shall also provide a return address for transmitting the records to be released.

CONTESTING RECORD PROCEDURES:

An individual desiring to request amendments of records maintained in this system should direct his or her request to the System Manager or to the appropriate FOIA/PA Officer noted in System Locations. The request should state the information being contested, the reason(s) for contesting it, and the proposed amendment thereof. Persons filing such requests should mark the envelope with the following legend Privacy Act Amendment Request.

RECORD SOURCE CATEGORIES:

Basic information contained in this INS data repository is supplied by aliens wishing to seek entry to the United States and/or those already in the United States seeking benefits from the Immigration and Naturalization Service. External entities including Department of State overseas consular offices and United States embassies and the Department of Labor may also provide data on individuals seeking entry into the United States.

SYSTEMS EXEMPTED FROM CERTAIN PROVISIONS OF THE ACT:

None.

[FR Doc. 01-1740 Filed 1-19-01; 8:45 am]

BILLING CODE 4410-10-M